DEPARTMENT OF THE TREASURY

Internal Revenue Service

26 CFR Part 1

[REG-134030-04 and REG-133791-02]

RIN 1545-BD60 and RIN 1545-BA88

Credit for Increasing Research Activities; Correction

AGENCY: Internal Revenue Service (IRS), Treasury.

ACTION: Correction to notice of proposed rulemaking.

SUMMARY: This document contains corrections to a notice of proposed rulemaking relating to the computation and allocation of the credit for increasing research activities for members of a controlled group of corporations, including consolidated groups, or a group of trades or businesses under common control.

FOR FURTHER INFORMATION CONTACT: Nicole R. Cimino at (202) 622-3120 (not a toll-free number).

SUPPLEMENTARY INFORMATION:

Background

The proposed regulations that are the subject of these corrections are under section 951(a) of the Internal Revenue Code.

Correction of Publication

Accordingly, the publication of the notice of proposed rulemaking (REG-134030-04 and REG-133791-02), which was the subject of FR Doc. 05-10236, is corrected as follows:

1. On page 29662, column 3, in the preamble, under the paragraph heading “Background and Explanation of Provisions”, line 5 from the bottom, the language “December 31, 2004. The text of those” is corrected to read “May 24, 2005. The text of those”.

Cynthia E. Grigsby,
Acting Chief, Publications and Regulations Branch, Legal Processing Division, Associate Chief Counsel, (Procedure and Administration).

[FR Doc. 05-12138 Filed 6-20-05; 8:45 am]

BILLING CODE 4830-01-P